NATIONAL SCIENCE FOUNDATION

Mathematical and Physical Sciences Advisory Committee; Notice of Meeting

In accordance with Federal Advisory Committee Act (Pub. L. 92-463, as amended), the National Science Foundation announces the following meeting:

Name: Directorate for Mathematical and Physical Sciences Advisory Committee (#66).

Date/Time: April 7, 2005, 8 a.m.-5 p.m., April 8, 2005, 8 a.m.-6 p.m.

Place: National Science Foundation, 4201 Wilson Boulevard, Arlington, VA 22230, Room 375.

Type of Meeting: Open.

Contact Person: Dr. Morris L. Aizenman, Senior Science Associate, Directorate for Mathematical and Physical Sciences, Room 105, National Science Foundation, 4201 Wilson Boulevard, Arlington, VA 22230. (703) 292-8807.

Purpose of Meeting: To provide advice and recommendations concerning NSF science and education activities within the Directorate for Mathematical and Physical Sciences.

Agenda:

Update on current status of Directorate

Report of Committee of Visitors on Division of Astronomical Sciences

Report of Committee of Visitors on Division of Materials Research

Report on MPS Theory Workshop

Meeting of MPSAC with Divisions within MPS Directorate

Discussion of Possible Future MPS Activities Related to Increasing Participation of Women in the MPS Sciences

Summary Minutes: May be obtained from the contact person listed above.

Dated: March 9, 2005.
Susanne E. Bolton,
Committee Management Officer.

[FR Doc. 05-4945 Filed 3-11-05; 8:45 am]

BILLING CODE 7555-01-M